DEPARTMENT OF AGRICULTURE

Forest Service

Revision of Timber Sale Contract Forms FS-2400-6 and FS-2400-6T

AGENCY: Forest Service, USDA.

ACTION: Notice; request for comment.

SUMMARY: The Forest Service is proposing to revise its timber sale contracts, Form FS-2400-6 for scaled sale procedures and Form FS-2400-6T for tree measurement timber sale procedures. These proposed revisions will be the first substantive changes in the standard timber sale contract provisions in over 30 years. Contract provisions to implement laws and policies, formerly included as special provisions, are proposed to be consolidated into the standard provisions. A side-by-side comparison of the proposed revised contracts and the existing contracts is available as provided in the ADDRESSES section of this notice. Comments received will be considered when the Forest Service prepares the final timber sale contracts.

DATES: Comments must be received in writing on or before February 17, 2004.

ADDRESSES: Send written comments by mail to the Director of Forest and Rangeland Management, MAIL STOP 1105, Forest Service, USDA, 1400 Independence Avenue, SW., Washington, DC 20250-1105; via e-mail to timbercontracts@fs.fed.us; or via facsimile to (202) 205-1045. These proposed timber sale contract forms are available for public review on the Forest Service World Wide Web/Internet site at http://www.fs.fed.us/forestmanagement/infocenter/newcontracts/index.shtml. Alternatively, the contracts can be reviewed in the office of the Director of Forest and Rangeland Management, Third Floor, Northwest Wing, Yates Building, 201 14th Street, SW., Washington, DC. All comments received in response to this notice, including names and addresses when provided, will become a matter of public record and are available for public inspection and copying. The public may inspect comments received at the same address where copies of the contracts can be reviewed. Visitors are encouraged to call ahead to (202) 205-0893 to facilitate entry into the building.

FOR FURTHER INFORMATION CONTACT: Rex Baumback, Forest and Rangeland Management Staff, (202) 205-0855.

SUPPLEMENTARY INFORMATION:

Background

Timber sale contract Forms FS-2400-6 and FS-2400-6T are used by the Forest Service for the sale of all large, complex timber sales. Timber sale contract Form FS-2400-6 is used when timber is measured for payment after it is harvested, and timber sale contract Form FS-2400-6T is used when the basis for payment is measurement prior to sale. These contracts were originally brought into use in July 1970 and January 1972, respectively, and were the result of extended discussions between the Federal Timber Purchasers Committee and the Forest Service. After 2 years, these contracts were revised in September 1973 and October 1973, respectively, to incorporate modifications based upon experience gained and policy changes since their inception.

From 1973 until July 2001, the requirements of new legislation and Forest Service policy were implemented in the contracts by issuing special provisions that replaced or added to the standard contract provisions. In July 2001, new versions of timber sale contract Forms FS-2400-6 and FS-2400-6T were issued. The July 2001 versions incorporated the special provisions that had been brought into use since 1973, but did not make any other changes that affect the rights and obligations of the Forest Service and timber sale purchasers.

Proposed Contract Revisions

The Forest Service is proposing to revise timber sale contract Forms FS-2400-6 and FS-2400-6T to:

1. Clarify the remedies available when contracts are suspended, modified, or terminated for environmental reasons.

2. Incorporate special provisions that are applicable to all timber sales into the standard contract provisions.

3. Correct inconsistencies and clarify ambiguous language that has accumulated by the addition of 30 years of special provisions to the timber sale contracts.

4. Make organizational and editorial changes intended to eliminate duplicative and unnecessary provisions.

5. Decrease the need in the existing contracts to make certain standard provisions inapplicable by replacing those provisions with the appropriate former special provisions.

6. Provide for liquidated damages when the Forest Service unilaterally terminates or partially terminates a timber sale contract.

7. Provide for a rate redetermination after a specified time when the Forest Service orders the delay or interruption of operations for specific reasons.

A side-by-side comparison of the specific differences between the existing contracts and the proposed revised contracts is available electronically and in paper copy as provided in the ADDRESSES section of this notice. Comments received will be considered when the Forest Service prepares the final timber sale contracts. When the timber sale contracts are finalized, a subsequent notice will be published in the Federal Register.

Dated: December 10, 2003.
Tom L. Thompson,
Acting Chief.

[FR Doc. 03-31315 Filed 12-18-03; 8:45 am]

BILLING CODE 3410-11-P